NUCLEAR REGULATORY COMMISSION

[NRC-2017-0186]

Preparation of Petitions for Rulemaking and Preparation and Submission of Proposals for Regulatory Guidance Documents

AGENCY: Nuclear Regulatory Commission.

ACTION: Regulatory guide; withdrawal.

SUMMARY: The U.S. Nuclear Regulatory Commission (NRC) is withdrawing Regulatory Guide (RG) 10.12, “Preparation of Petitions for Rulemaking under 10 CFR 2.802 and Preparation and Submission of Proposals for Regulatory Guidance Documents.” Regulatory Guide 10.12 is being withdrawn because the guidance in the RG is found in the revised 10 CFR 2.802, “Petition for Rulemaking,” and in other user-friendly communication tools, such as the NRC's public Web site.

ADDRESSES: Please refer to Docket ID NRC-2017-0186 when contacting the NRC about the availability of information regarding this document. You may access publicly-available information related to this document using any of the following methods:

• Federal Rulemaking Web site: Go to http://www.regulations.gov and search for Docket ID NRC-2017-0186. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The basis for the withdrawal of this guide is in ADAMS under Accession No. ML17236A456.

• NRC's PDR: You may examine and purchase copies of public documents at the NRC's PDR, Room O1-F21, One White Flint North, 11555 Rockville Pike, Rockville, Maryland 20852.

FOR FURTHER INFORMATION CONTACT: Harriet Karagiannis, Office of Nuclear Regulatory Research, U.S. Nuclear Regulatory Commission, Washington, DC 20555-0001, telephone: 301-251-7477, email: Harriet.Karagiannis@nrc.gov.

SUPPLEMENTARY INFORMATION:

I. Introduction

The NRC is withdrawing RG 10.12 because it is no longer the most appropriate platform for communicating this guidance to the public. The proposed rule combined with the updates in the NRC's public Web site provide more useful information for the Petition for Rulemaking (PRM) process.

II. Further Information

The withdrawal of RG 10.12 does not alter any prior or existing licensing commitments based on its use. Although a regulatory guide is withdrawn, its use in existing licenses is still valid, and changes to the licenses can be accomplished using other regulatory products.

Withdrawal of a RG means that the guide no longer provides useful information or has been superseded by other guidance, technological innovations, congressional actions, or other events. A withdrawn guide should not be used for future NRC licensing activities.

The RG 10.12 was issued in December 1996. The RG 10.12 provides guidance on meeting the requirements in part 2 of title 10 of the Code of Federal Regulations (10 CFR), “Agency Rules of Practice and Procedures,” section 2.802 “Petition for Rulemaking,” which pertains to the process for preparing a petition. As a result of the revised 10 CFR 2.802 rulemaking the guidance that exists in RG 10.12 has been superseded.

The staff has revised 10 CFR 2.802 to streamline the process for addressing a PRM. The rule: (1) Clarifies and codifies the NRC's current policies and practices on the actions taken upon receipt of a PRM and at other stages of the PRM process; (2) clarifies and improves the current policies and practices for evaluating PRMs; (3) updates the means for communicating with the petitioner and the public information on the status of NRC PRMs and rulemaking activities addressing PRMs; and (4) establishes an improved process for resolving PRMs, including an administrative process for closing the PRM docket to reflect agency action for the PRM. These changes are enhancing the consistency, timeliness, and transparency of the NRC's actions and are increasing the efficient use of the NRC's resources in the PRM process. The rule text supersedes the guidance that exists in RG 10.12.

In addition, information in RG 10.12 is made available through other user-friendly tools, such as the NRC's public Web site which is enhanced to provide updated guidance, including a brochure and a process flow chart, for submitting a PRM and proposals to change existing regulatory guidance documents.

The revised 10 CFR 2.802 combined with Web site updates provide more up-to-date information for the PRM process. Therefore, the guidance provided in this RG has been superseded.

Dated at Rockville, Maryland, this 24th day of August, 2017.
For the Nuclear Regulatory Commission.
Edward M. O'Donnell,
Acting Chief, Regulatory Guidance and Generic Issues Branch, Division of Engineering, Office of Nuclear Regulatory Research.

[FR Doc. 2017-18429 Filed 8-29-17; 8:45 am]

BILLING CODE 7590-01-P